DEPARTMENT OF AGRICULTURE

Agricultural Marketing Service

[Docket No. DA-98-02]

United States Standards for Grades of Dry Whole Milk

AGENCY: Agricultural Marketing Service, USDA.

ACTION: Notice.

SUMMARY: The Agricultural Marketing Service (AMS) is soliciting comments on its proposal to change the United States Standards for Grades of Dry Whole Milk. AMS is proposing changes that would: (1) Lower the maximum bacterial estimate for U.S. Extra Grade from not more than 50,000 per gram to not more than 10,000 per gram and for U.S. Standard Grade from not more than 100,000 per gram to not more than 50,000 per gram, (2) reference the Food and Drug Administration's standards of identity for dry whole milk, (3) incorporate a maximum titratable acidity requirement for U.S. Extra Grade and U.S. Standard grade, (4) delete specific provisions for Dry Whole Milk produced by roller process, (5) include protein content as an optional test, (6) relocate information concerning the optional oxygen content determination and, (7) expand the test methods section to allow product evaluation using methods included in Standard Methods for the Examination of Dairy Products, in the Official Methods of Analysis of the Association of Official Analytical Chemists, and in standards developed by the International Dairy Federation. These changes are being proposed to strengthen the quality requirements of these standards to reflect improvements that have occurred in dry whole milk quality since the Standards were last reviewed. AMS is also proposing editorial changes to provide consistency with other dry milk standards. USDA grade standards are voluntary standards. Manufacturers of dairy products are free to choose whether or not to use these voluntary grade standards. USDA grade standards have been developed to identify the degree of quality in various dairy products. Quality in general refers to usefulness, desirability, and value of the product or its marketability as a commodity.

DATES: Comments must be submitted on or before September 26, 2000.

ADDRESSES: Written comments may be submitted to: Duane R. Spomer, Chief, Dairy Standardization Branch, Dairy Programs, Agricultural Marketing Service, U.S. Department of Agriculture, Room 2746, South Building, Stop 0230, P.O. Box 96456, Washington, DC 20090-6456; faxed to (202) 720-2643; or, e-mailed to Duane.Spomer@usda.gov. Comments should reference the date and page number of this issue of the Federal Register. All comments received will be made available for public inspection at the above address during regular business hours. The current U.S. Standards for Grades of Dry Whole Milk, along with the proposed changes, are available either through the above address or by accessing, AMS Home Page on the Internet at www.ams.usda.gov/dairy/stand.htm.

FOR FURTHER INFORMATION CONTACT: Talari Jude, Dairy Products Marketing Specialist, Dairy Standardization Branch, USDA/AMS/Dairy Programs, Room 2746-S, P.O. Box 96456, Washington, DC 20090-6456; (202) 720-7473.

SUPPLEMENTARY INFORMATION: Section 203 (c) of the Agricultural Marketing Act of 1946, as amended, directs and authorizes the Secretary of Agriculture “to develop and improve standards of quality, condition, quantity, grade, and packaging and recommend and demonstrate such standards in order to encourage uniformity and consistency in commercial practices * * *”. AMS is committed to carrying out this authority in a manner that facilitates the marketing of agricultural commodities and will make copies of official standards available upon request. The United States Standards for Grades of Dry Whole Milk no longer appear in the Code of Federal Regulations but are maintained by USDA/AMS/Dairy Programs.

When dry whole milk is officially graded, the USDA regulations (7 CFR part 58) governing the grading of manufactured or processed dairy products are used. These regulations require a charge for the grading service provided by USDA. The Agency believes this proposal would accurately identify quality characteristics in dry whole milk.

AMS is proposing to change the United States Standards for Grades of Dry Whole Milk using the procedures that appear in part 36 of title 7 of the Code of Federal Regulations (7 CFR part 36).

The current United States Standards for Grades of Dry Whole Milk have been in effect since May 13,1983. AMS initiated a review of this Standard and discussed possible changes with the dairy industry. The American Dairy Products Institute, a trade association representing the dry whole milk industry, provided specific suggestions, including a recommendation to lower the maximum bacterial estimate.

Proposed by the American Dairy Products Institute

The American Dairy Products Institute provided suggestions to:

• Lower the maximum bacterial estimate for U.S. Extra Grade from not more than 50,000 per gram to not more than 10,000 per gram;

• Lower the maximum bacterial estimate for U.S. Standard Grade from not more than 100,000 per gram to not more than 50,000 per gram; and

• Expand the definition of dry whole milk to specify optional ingredients that may be added to dry whole milk.

Proposed by Dairy Programs, Agricultural Marketing Service

AMS is proposing to:

• Lower the maximum bacterial content requirements as suggested by the American Dairy Products Institute;

• Reference the Food and Drug Administration's standards of identity for dry whole milk to provide for optional ingredients as suggested by the American Dairy Products Institute;

• Incorporate a maximum titratable acidity requirement for U.S. Extra Grade and U.S. Standard Grade;

• Delete specific provisions for dry whole milk produced by roller process;

• Include protein content as an optional test;

• Reference additional test methods that may be used to determine U.S. grade;

• Include provisions to report actual moisture which is moisture calculated on a residual or as is basis; and

• Make editorial changes that would provide consistency with other U.S. grade standards for dairy products.

This notice provides for a 60 day comment period for interested parties to comment on proposed revisions to the standards. The following is an outline of these changes.

BILLING CODE 3410-02-P

Authority: 7 U.S.C. 1621-1627.

Dated: July 21, 2000.
Kathleen A. Merrigan,
Administrator, Agricultural Marketing Service.

[FR Doc. 00-18987 Filed 7-27-00; 8:45 am]

BILLING CODE 3410-02-C